DEPARTMENT OF LABOR

Office of the Secretary

Submission for OMB Review; Comment Request

November 13, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz/Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Main Fan Operation and Inspection.

OMB Number: 1219-0030.

Affected Public: Business or other for-profit.

Frequency: Recordkeeping, daily.

Number of Respondents: 7.

Number of Annual Responses: 2,625.

Estimated Time Per Response: 30 minutes.

Total Burden Hours: 1,313.

Total Annualized Capital/Startup Costs: $735.

Total Annual Costs (operating/maintaining systems or purchasing services): $735.

Description: This information is required by 30 CFR 57.22204 and is collected through daily pressure recordings used by the mine operator and MSHA to maintain a constant surveillance on-mine ventilation, and to ensure that unsafe conditions are identified early and corrected. Technical consultants may occasionally review the information when solving problems.

Type of Review: Reinstatement of a previously approved collection for which approval has expired.

Agency: Mine Safety and Health Administration (MSHA).

Title: Record of Examinations for Hazardous Conditions.

OMB Number: 1219-0083.

Affected Public: Business or other for-profit.

Frequency: Recordkeeping, each shift.

Number of Respondents: 1,215.

Number of Annual Responses: 411,885.

Estimated Time Per Response: 1.5 hours.

Total Burden Hours: 617,828.

Total Annualized Capital/Startup Costs: $0.

Total Annual Costs (operating/maintaining systems or purchasing services): $0.

Description: 30 CFR 77.1713 requires operators of surface coal mines and surface facilities to keep records of the results of mandatory examinations for hazardous conditions. Records consist of the nature and location of any hazardous condition found and the actions taken to abate the hazardous condition.

Type of Review: Extension of a currently approved collection.

Agency: Mine Safety and Health Administration (MSHA).

Title: Explosive Materials and Blasting Units.

OMB Number: 1219-0095.

Affected Public: Business or other for-profit.

Frequency: On occasion.

Number of Respondents: 7.

Number of Annual Responses: 7.

Estimated Time Per Response: 1 hour.

Total Burden Hours: 7.

Total Annualized Capital/Startup Costs: $0.

Total Annual Costs (operating/maintaining systems or purchasing services): $0.

Description: In the absence of permissible explosives or blasing units having adequate blasting capacity for metal and nonmetal gassy mines, 30 CFR 57.22606 provides procedures by which mine operators shall notify MSHA of all non-approved explosive materials and blasting units to be used prior to their use in underground gassy metal and nonmetal mines. MSHA uses this information to determine that the explosives and procedures to be used are safe for blasting in a gassy underground mine.

Ira L. Mills,
Departmental Clearance Officer.

[FR Doc. 00-29618 Filed 11-17-00; 8:45 am]

BILLING CODE 4510-43-M